CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Disability Accommodation Reimbursement Grant Request Form for review and approval in accordance with the Paperwork Reduction Act of 1995, Public Law 104-13, (44 U.S.C. Chapter 35). Copies of this ICR, with applicable supporting documentation, may be obtained by calling the Corporation for National and Community Service, Sean R. Scott, at 202-606-3866 or email to sescott@cns.gov. Individuals who use a telecommunications device for the deaf (TTY-TDD) may call 1-800-833-3722 between 8:00 a.m. and 8:00 p.m. Eastern Time, Monday through Friday.

DATES: Comments may be submitted, identified by the title of the information collection activity, within May 23, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on January 15, 2016 at Volume 81 FR page 2202. This comment period ended March 15, 2016. No public comments were received from this Notice.

Description: This form is for use by AmeriCorps State and National grantees who want to receive reimbursement for funds spent accommodating AmeriCorps members with disabilities.

Type of Review: New.

Agency: Corporation for National and Community Service.

Title: Disability Accommodation Reimbursement Request Form.

OMB Number: TBD.

Agency Number: None.

Affected Public: Grantees of AmeriCorps State & National and AmeriCorps members with disabilities.

Total Respondents: 20.

Frequency: Once.

Average Time per Response: 10 minutes.

Estimated Total Burden Hours: 3.33 hours.

Total Burden Cost (Capital/Startup): None.

Total Burden Cost (Operating/Maintenance): None.

Dated: April 14, 2016.
Jennifer Bastress Tahmasebi,
Deputy Director, AmeriCorps State and National.

[FR Doc. 2016-09198 Filed 4-20-16; 8:45 am]

BILLING CODE 6050-28-P